DEPARTMENT OF THE INTERIOR

Bureau of Land Management

[NM-030-1430-ET; NMNM 106227]

Notice of Proposed Withdrawal; New Mexico

AGENCY: Bureau of Land Management (BLM), Interior.

ACTION: Notice.

SUMMARY: The BLM proposes to withdraw 712 acres of Federal mineral estate within the Red Rock Wildlife Area from location and entry under the United States mining laws for 20 years to protect the breeding and rearing habitat of the State-listed endangered desert bighorn sheep (Ovis Mexicana). This notice segregates the Federal mineral estate within the described lands for up to 2 years from location and entry under the United States mining laws.

DATES: Comments should be received on or before December 10, 2002.

ADDRESSES: Comments should be sent to the Las Cruces Field Office Manager, BLM, 1800 Marquess, Las Cruces, New Mexico 88005.

FOR FURTHER INFORMATION CONTACT: Phil Rhinehart, Realty Specialist at the BLM, Las Cruces Field Office, 1800 Marquess, Las Cruces, New Mexico 88005, or at 505-525-4300.

SUPPLEMENTARY INFORMATION: On July 2, 2002, a petition was approved allowing the BLM to file an application to withdraw the Federal mineral estate on the following described lands from location and entry under the United States mining laws, subject to valid existing rights:

New Mexico Principal Meridian

T. 18 S., R. 18 W.,

Sec. 9, lots 1 to 4, inclusive, S½NE¼SW¼, S½NW¼SE¼, and SE¼SE¼;

Sec. 15, NW¼NW¼ and W½SW¼;

Sec. 16, lots 1 to 5, inclusive, and NW¼SE¼;

Sec. 21, NE¼NE¼, W½NE¼, and W½NW¼;

Sec. 22, NW¼NW¼.

The areas described aggregate approximately 712 acres in Grant County. All persons who wish to submit comments, suggestions, or objections in connection with the proposed withdrawal may present their views in writing, by the date specified above, to the Las Cruces Field Office Manager.

Notice is hereby given that an opportunity for a public meeting is afforded in connection with the proposed withdrawal. All interested persons who desire a public meeting for the purpose of being heard on the proposed withdrawal must submit a written request to the Las Cruces Field Office Manager, within 90 days from the date of publication of this notice. Upon determination by the authorized officer that a public meeting will be held, a notice of the time and place will be published in the Federal Register and a newspaper at least 30 days before the scheduled date of the meeting.

The application will be processed in accordance with the regulations set forth in 43 CFR 2300. For a period of 2 years from the date of publication of this notice in the Federal Register, the lands will be segregated as specified above unless the application is denied or canceled or the withdrawal is approved prior to that date.

Dated: July 24, 2002.
Amy L. Lueders,
Las Cruces Field Manager.

[FR Doc. 02-23048 Filed 9-10-02; 8:45 am]

BILLING CODE 4310-VC-P